DEPARTMENT OF COMMERCE

Foreign-Trade Zones Board

[B-43-2013]

Notification of Proposed Production Activity: Whirlpool Corporation Subzone 8I; (Washing Machines): Clyde and Green Springs, Ohio

Whirlpool Corporation (Whirlpool), operator of Subzone 8I, submitted a notification of proposed production activity to the FTZ Board for its facilities located in Clyde and Green Springs, Ohio. The notification conforming to the requirements of the regulations of the FTZ Board (15 CFR 400.22) was received on May 1, 2013.

The subzone currently has authority to produce standard and high capacity washing machines using certain imported components. The current request would add subassemblies and other unfinished washing machine parts to the list of approved finished products and would also add imported components to the scope of authority. Pursuant to 15 CFR 400.14(b), FTZ activity would be limited to the specific foreign-status materials and components and specific finished products described in the submitted notification (as described below) and subsequently authorized by the FTZ Board.

Production under FTZ procedures could exempt Whirlpool from customs duty payments on the foreign status components used in export production. On its domestic sales, Whirlpool would be able to choose the duty rates during customs entry procedures that apply to: washing machine seal and pump assemblies; subassemblies of washing machines; transmission and camshafts for washing machines agitators; gears and gearing for speed changers related to washing machines; clutch assemblies for washing machines; gears and gearing for agitator/washing machine transmissions; motor/actuator assemblies for washing machines; switch/button assemblies for washing machines; control panels for washing machines; control housing assemblies for washing machines; wire harness assemblies for washing machines; laundry pedestals; and, laundry pedestal subassemblies (duty rate ranges from duty-free to 6.7%) for the foreign status inputs noted below and in the existing scope of authority. Customs duties also could possibly be deferred or reduced on foreign status production equipment.

The additional components and materials sourced from abroad include: Grommets, covers, spacers and gaskets of plastic; rubber bumpers and grommets; fiberglass seals; nuts of iron or steel; hinges; brackets; refrigeration parts; dishwashing machine parts; drying machine parts; water inlet valves; AC/DC fan motors; AC motors; stators, rotors and parts of motors; hand mixer parts; microwave parts; fixed capacitors; capacitors; RFI filters; thermistor probes; printed circuit boards; drum lights; power cords and wire harnesses of copper; turbidity sensors; and, sensor—spray arms (duty rate ranges from duty-free to 6.5%).

Public comment is invited from interested parties. Submissions shall be addressed to the Board's Executive Secretary at the address below. The closing period for their receipt is June 24, 2013

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 9, 2013.
Andrew McGilvray,
Executive Secretary.

[FR Doc. 2013-11561 Filed 5-14-13; 8:45 am]

BILLING CODE 3510-DS-P